DEPARTMENT OF TRANSPORTATION

Federal Aviation Administration

[Summary Notice No. PE-2004-35]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on May 26, 2004.
Donald P. Byrne,
Assistant Chief Counsel for Regulations.

Dispositions of Petitions

Docket No.: FAA-2002-11840.

Petitioner: Davis Aerospace Technical High School, and Black Pilots of America.

Section of 14 CFR Affected: 14 CFR 135.251, 135.255, and 135.353, and appendices I and J to part 121.

Description of Relief Sought/Disposition: To permit Davis Aerospace Technical High School, and Black Pilots of America to conduct local sightseeing flights at the Detroit City Airport, Detroit, Michigan, for its annual open house during May 2004, for compensation or hire, without complying with certain anti-drug and alcohol misuse prevention requirements of part 135, subject to certain conditions and limitations.

Grant, 5/14/2004, Exemption No. 8318

Docket No.: FAA-2002-11488.

Petitioner: International Aero Engines AG.

Section of 14 CFR Affected: 14 CFR 21.325(b)(1) and (3).

Description of Relief Sought/Disposition: To permit export airworthiness approvals to be issued for Class I products (engines) assembled and tested in the United Kingdom, and for Class II and III products manufactured in the International Aero Engines AG consortium countries of Germany, Japan, and the United Kingdom.

Grant, 5/10/2004, Exemption No. 4991H

Docket No.: FAA-2000-8533.

Petitioner: Israel Aircraft Industries, Ltd.

Section of 14 CFR Affected: 14 CFR 61.77(a).

Description of Relief Sought/Disposition: To permit pilots employed by or under contract to Israel Aircraft Industries, Ltd, to obtain special purpose pilot authorizations in order to perform the following flights of aircraft being delivered by Israel Aircraft Industries from its facilities within Israel, facilities within the U.S., and its facilities at a number of locations throughout the World for Israel Aircraft Industries' U.S. and international customers:

1. Ferry/delivery flights of all airplanes being delivered by Israel Aircraft Industries from Israel to the United States for its U.S. and international customers.

2. Ferry/delivery flights of all airplanes being delivered by Israel Aircraft Industries from Israel to other countries for its U.S. and international customers.

3. Test and acceptance flights of all airplanes being delivered by Israel Aircraft Industries from for its U.S. and international customers.

4. Ferry, delivery, and acceptance flights for its customers from Israel Aircraft Industries' part 145 repair stations. Israel Aircraft Industries states that it has a need to perform ferry, delivery, and acceptance flights from its part 145 repair stations for its U.S. and international customers who may have had “passenger-to-cargo” conversions performed on their airplanes.

Grant, 5/7/2004, Exemption No. 7406B

Docket No.: FAA-2002-11992.

Petitioner: Kent State University.

Section of 14 CFR Affected: 14 CFR 135.251, 135.255, and 135.353, and appendices I and J to part 121.

Description of Relief Sought/Disposition: To permit Kent State University to conduct local sightseeing flights at the Kent State University Airport, during September 2004, for compensation or hire, without complying with certain anti-drug and alcohol misuse prevention requirements of part 135, subject to certain conditions and limitations.

Grant, 5/14/2004, Exemption No. 8319

Docket No.: FAA-2002-13131.

Petitioner: Starfighters, Inc.

Section of 14 CFR Affected: 14 CFR 91.319(a).

Description of Relief Sought/Disposition: To permit Starfighters, Inc., to use its Lockheed F-104 Starfighter aircraft (registration No. N104RB, serial No. 104632), which has an experimental airworthiness certificate, to conduct spaceflight orientation training and to receive compensation for such training.

Denial, 5/7/2004, Exemption No. 8316

Docket No.: FAA-2004-16973.

Petitioner: Mr. Donald E. Brown.

Section of 14 CFR Affected: 14 CFR 121.383(c).

Description of Relief Sought/Disposition: To permit Mr. Donald E. Brown to act as a pilot in operations conducted under part 121 after reaching his 60th birthday.

Denial, 5/10/2004, Exemption No. 8317

Docket No.: FAA-2004-17374.

Petitioner: Ameristar Air Cargo, Inc.

Section of 14 CFR Affected: 14 CFR 121.383(c).

Description of Relief Sought/Disposition: To permit Ameristar Air Cargo, Inc., to utilize a pilot to act as a pilot in operations conducted under part 121 after reaching his/her 60th birthday.

Denial, 5/10/2004, Exemption No. 8315

Docket No.: FAA-2000-8528.

Petitioner: Popular Rotorcraft Association.

Section of 14 CFR Affected: 14 CFR 91.319(a).

Description of Relief Sought/Disposition: To permit Popular Rotorcraft Association and its member flight instructors to operate an experiment category gyroplane for the purpose of conducting flight instruction for compensation or hire.

Grant, 5/7/2004, Exemption No. 5209I

Docket No.: FAA-2004-16893.

Petitioner: Lockheed Martin Corporation, Systems Integration.

Section of 14 CFR Affected: 14 CFR 45.29(b)(3).

Description of Relief Sought/Disposition: To permit Lockheed Martin Corporation, Systems Integration, to display 2-inch nationality and registration marks on a Bell UH-1H aircraft instead of the required 12-inch marks.

Denial, 5/4/2004, Exemption No. 8312

Docket No.: FAA-2004-17026.

Petitioner: Evergreen Helicopters of Alaska, Inc.

Section of 14 CFR Affected: 14 CFR 43.3(g).

Description of Relief Sought/Disposition: To permit pilots employed by Evergreen Helicopters of Alaska, Inc., to accomplish certain maintenance procedures without holding an airframe and powerplant mechanic certificate.

Denial, 5/4/2004, Exemption No. 8313

Docket No.: FAA-2002-13291.

Petitioner: Pulaski Technical College.

Section of 14 CFR Affected: 14 CFR 65.75(a).

Description of Relief Sought/Disposition: To permit Pulaski Technical College to administer the AMG written test to students immediately following their successful completion of the general curriculum but before they meet the experience requirements of § 65.77.

Grant, 5/3/2004, Exemption No. 7926A

Docket No.: FAA-2002-12457.

Petitioner: Arkansas Aviation Technologies Center.

Section of 14 CFR Affected: 14 CFR 65.17(a), 65.19(b), and 65.75(a) and (b).

Description of Relief Sought/Disposition: To permit Arkansas Aviation Technologies Center, an aviation maintenance technical school, certificate No. N1KT082K, to:

1. Administer the FAA oral and practical mechanic tests to students at times and places identified in AATC's FAA-approved operations manual.

2. Conduct the oral and practical tests as an integral part of the education process rather than conducting the tests upon students' successful completion of the mechanic written tests.

3. Approve students for retesting within 30 days after failure without requiring a signed statement certifying that additional instruction has been given in the failed area.

4. Administer the aviation mechanic general (AMG) written test to students immediately after successful completion of the general curriculum but before meeting the requirements of § 65.77.

Grant, 5/3/2004, Exemption No. 7877A

Docket No.: FAA-2001-9138.

Petitioner: Air Canada.

Section of 14 CFR Affected: 14 CFR 43.17(c)(2).

Description of Relief Sought/Disposition: To permit foreign operators of U.S. registered aircraft and foreign Federal Aviation Administration approved repair stations to ship parts directly to Air Canada for repair without shipping them through the United States.

Grant, 5/7/2004, Exemption No. 8314

Docket No.: FAA-2001-9409.

Petitioner: U.S. Air Force.

Section of 14 CFR Affected: 14 CFR 91.159(c).

Description of Relief Sought/Disposition: To permit the U.S. Air Force to operate its U-2 aircraft under visual flight rules at or above flight level 600 without maintaining the appropriate cruising altitudes as required under § 91.159(c).

Grant, 5/4/2004, Exemption No. 130F

Docket No.: FAA-2001-9519.

Petitioner: U.S. Air Force.

Section of 14 CFR Affected: 14 CFR 91.159.

Description of Relief Sought/Disposition: To permit the U.S. Air Force to conduct hurricane reconnaissance flights without maintaining the appropriate cruising altitudes as prescribed by § 91.159 of 14 CFR that governs operations for flights conducted under visual flight rules.

Grant, 5/4/2004, Exemption No. 131J

Docket No.: FAA-2001-9410.

Petitioner: U.S. Air Force.

Section of 14 CFR Affected: 14 CFR 91.159.

Description of Relief Sought/Disposition: To permit the U.S. Air Force to conduct non-training photographic reconnaissance missions that require flying a series of tracks at a constant altitude under visual flight rules, without maintaining the appropriate cruising altitude required under § 91.159.

Grant, 5/4/2004, Exemption No. 134K

Docket No.: FAA-2004-17410.

Petitioner: Visiting Nurse Association.

Section of 14 CFR Affected: 14 CFR 135.251, 135.255, and 135.353, and appendices I and J to part 121.

Description of Relief Sought/Disposition: To permit the Visiting Nurse Association to conduct local sightseeing flights at the Martin County Airport, Stuart, Florida, for the Stuart Air show during November 2004, for compensation or hire, without complying with certain anti-drug and alcohol misuse prevention requirements of part 135, subject to certain conditions and limitations.

Grant, 5/14/2004, Exemption No. 8320

Docket No.: FAA-2004-17186.

Petitioner: Mr. John C. Kline.

Section of 14 CFR Affected: 14 CFR 121.383(c).

Description of Relief Sought/Disposition: To permit Mr. John C. Kline to act as a pilot in operations conducted under part 121 after reaching his 60th birthday.

Denial, 5/18/2004, Exemption No. 8321

Docket No.: FAA-2000-8527.

Petitioner: SIMCOM Training Center

Section of 14 CFR Affected: 14 CFR 91.9(a) and 91.531(a) (1) and (2).

Description of Relief Sought/Disposition: To permit SIMCOM Training Center and operators of Cessna Citation model 500, 550, S550, 552, and 560 airplanes to operate those airplanes without a pilot who is designated as second in command.

Grant, 5/19/2004, Exemption No. 7487D

[FR Doc. 04-12323 Filed 5-28-04; 8:45 am]

BILLING CODE 4910-13-P